DEPARTMENT OF DEFENSE

United States Air Force

Notice of Intent To Prepare an Environmental Impact Statement for Modification of the Condor 1 and Condor 2 Military Operations Areas Used by the 104th Fighter Wing of the Massachusetts Air National Guard

AGENCY: Air National Guard, Department of Defense.

ACTION: Notice of intent (NOI) to prepare an environmental impact statement.

SUMMARY: This notice replaces the posting in the Federal Register on June 17, 2009, Vol. 74, No. 115 with the corrected location of the public hearing from the Civic Center in Augusta, Maine. In accordance with the National Environmental Policy Act (NEPA) of 1969, as amended (42 United States Code [U.S.C.] 4321-4347), the Council on Environmental Quality (CEQ) NEPA Regulations (40 Code of Federal Regulations [CFR] parts 1500-1508), and the United States Air Force's (USAF) Environmental Impact Analysis Process (EIAP, 32 CFR part 989), the Air Force is issuing this notice to advise the public and other Federal agencies that the ANG intends to prepare an Environmental Impact Statement (EIS) for proposed modifications of the Condor 1 and Condor 2 Military Operations Areas (MOAs) used by the 104th Fighter Wing (FW) of the Massachusetts ANG (MAANG). The 104th FW is based at Barnes ANG Base in Westfield, Massachusetts. The study area for this EIS includes portions of Piscataquis, Somerset, Franklin, and Oxford counties in Maine and a portion of Coos County, New Hampshire.

The ANG and Federal Aviation Administration (FAA) completed an Environmental Assessment (EA) of this proposal in June 2008. However, in response to requests from elected officials and the general public, the ANG has elected to prepare an EIS. The ANG conducted five previous scoping meetings in the towns of Rumford, Mexico, Rangeley, and Farmington (2), Maine as part of the EA process; the previous scoping meetings are sufficient and follow-on scoping meetings are not deemed necessary. However, the Air Force requests formal written scoping comments from the public, State and local government agencies, as well as affected Federal agencies for 30 days after the publication date of this NOI, to ascertain if there are additional issues relevant to the range of actions, alternatives, and impacts to be examined in detail in the draft EIS.

The Condor 1 and 2 MOAs are centered approximately 200 nautical miles northeast of Barnes ANG Base. The altitudes of both MOAs currently extend from 7,000 feet above mean sea level (MSL) (between approximately 2,800 feet and 6,300 feet above ground level [AGL]) up to 18,000 ft MSL. Condor 1 MOA is located immediately west of Condor 2 MOA. The Condor 1 and 2 MOAs are currently utilized by aircraft from the MAANG, the Vermont ANG, the United States Air Force, and the United States Navy. Units from these services utilize a variety of aircraft including the F-15, F-16, KC-10, KC-135, and P-3. Of these aircraft, F-15 and F-16 operations currently constitute 86-88% of annual operations in the Condor 1 and 2 MOAs.

The Ready Aircrew Program (RAP) is the United States Air Force's continuation training program designed to focus training or develop capabilities needed to accomplish a unit's core missions. The RAP requirements for every qualified F-15 and F-16 pilot include Low Altitude Awareness Training (LOWAT) which includes realistic, mission oriented air-to-air operations while in a LOWAT-certified low-altitude block at or below 1,000 feet AGL, as well as Low Slow/Visual Identification intercept and Slow Shadow intercept training missions. These training missions require pilots to identify and engage aerial targets at low altitude, and perform low altitude navigation, tactical formation, and defensive maneuvering to avoid or negate threats.

In order to be Combat Mission Ready, all F-15 and F-16 pilots are required to demonstrate proficiency in these skills down to 500 feet AGL, over land, on a regular basis. Pilot operational training standards require missions to be accomplished in the low, medium, and high altitude regimes. As currently defined, the floors of Condor 1 and 2 MOAs are too high to allow for the effective and efficient completion of required training. The purpose of the Proposed Action is to rectify these deficiencies and provide the 104th FW with adequate training airspace in a safe training environment to fulfill its mission.

The 104 FW proposes to combine the Condor 1 and 2 MOAs, divide the combined MOA into Condor Low MOA and Condor High MOA, and lower the flight floor of the proposed Condor Low MOA from 7,000 feet MSL to 500 feet AGL. Condor Low MOA would extend from 500 feet AGL up to, but not include, 7,000 feet MSL. Condor High MOA would extend from 7,000 feet MSL up to, but not include, 18,000 MSL. As part of the EIAP, and in accordance with the requirements of NEPA, the EIS will consider potential alternatives to the Proposed Action. Other Alternatives to be considered include lowering the floor of Condor 1 MOA and leaving Condor 2 MOA unchanged, completing low-altitude training in other airspace in the Northeast, deploying to conduct low-altitude training, and no action.

The draft EIS will be made available for a 45-day public review and comment period. The Air Force will sponsor a public hearing on the draft EIS in mid August 2009 at the University of Maine, Farmington, ME. Notification of hearing time and related logistics will be made via local public notifications.

No additional meetings are planned at this time. In addition to comments received at the public hearing, any written comments on the draft EIS received at the address below by October 1, 2009, will be considered in the preparation of this EIS.

FOR FURTHER INFORMATION CONTACT: Major Stephen R. Lippert NGB/A 7AM, Program Manager, 3500 Fetchet Avenue, Andrews AFB, MD 20762-5157, Ph: (301) 836-8167 stephen.lippert@ang.af.mil.

Bao-Anh Trinh,
Air Force Federal Register Liaison Officer.

[FR Doc. E9-14976 Filed 6-24-09; 8:45 am]

BILLING CODE 5001-05-P